LIBRARY OF CONGRESS

Copyright Office

37 CFR Parts 203, 204, 251, 252, 256, 257, 259, 260

[Docket No. 2000-5A]

Freedom of Information Act, Privacy Act, and Copyright Arbitration Royalty Panel: Policies and Procedures

AGENCY: Copyright Office, Library of Congress.

ACTION: Final rule; technical amendments.

SUMMARY: The Copyright Office is making non-substantive housekeeping amendments to its regulations to update them and to correct minor errors.

EFFECTIVE DATE: June 28, 2000.

FOR FURTHER INFORMATION CONTACT: Marilyn J. Kretsinger, Assistant General Counsel, Copyright Office GC/I&R, PO Box 70400, Southwest Station, Washington, DC 20024. Telephone: (202)707-8380. Telefax: (202)707-8366.

SUPPLEMENTARY INFORMATION: The Copyright Office periodically reviews its regulations as published in the Code of Federal Regulations (CFR) to correct minor and typographical errors in the published text. The Office has identified such errors in the currently published rules and makes corrections now. In addition, some corrections, such as the time allotted an agency to respond to a request under the Privacy Act, and the time in which an appeal must receive response, are changes made to conform the Office's regulations to the Privacy Act of 1974, which is part of the Administrative Procedure Act, 5 U.S.C. 552(a).

The following sections are amended to correct these errors: Secs. 203.3(a), 203.3(b)(2), 203.3(g), 203.4(c), 203.4(d), 203.4(f), 203.4(g), 204.4(a), 204.4(c), 204.5(a), 204.4(c), 204.7(a), 204.7(b), 204.8(a), and 204.8(b).

List of Subjects

37 CFR Part 203

Freedom of information.

37 CFR Part 204

Privacy.

Final Rule

Accordingly, 37 CFR chapter II is amended by making the following corrections and amendments.

PART 203—FREEDOM OF INFORMATION ACT: POLICIES AND PROCEDURES

1. The authority citation for part 203 continues to read as follows:

Authority: 17 U.S.C. 702; 5 U.S.C. 552, as amended.

§ 203.3 [Amended]

2. Section 203.3(a) is amended by removing “and” after “legal” and adding a “,” (comma) in its place.

3. Section 203.3(b)(2) is amended by removing “whether the materials” and adding in its place “whether the material”, and by removing “constitute” and adding “constitutes” in its place.

4. Section 203.3(g) is amended by removing “SE.” and adding in its place “SE”.

§ 203.4 [Amended]

5. Section 203.4(c) is amended by removing “SE.” and adding in its place “SE”; and by adding a comma after “Friday”.

6. Section 203.4(d) is amended by adding “-6000” after “20559”; and by removing “SE.” and adding in its place “SE”.

7. Section 203.4(f) introductory text is amended by removing “S.E.” and adding in its place “SE”; and by adding a “.” (period) after “DC” and before “Office hours are”.

8. Section 203.4(f)(2) is amended by removing the “.” (period) after “General Counsel of the United States Copyright Office” and by adding in its place “”at: Copyright GC/I&R, P.O. Box 70400, Southwest Station, Washington, DC 20024. The appeal should be clearly labeled ‘Freedom of Information Act Appeal’.”

9. Section 203.4(g) is amended by removing “In the event a request is denied and that denial is appealed, the Supervisory Copyright Information Specialist will refer the appeal to the General Counsel. Appeals shall be set forth in writing and addressed to the Supervisory Copyright Information Specialist at the address listed in paragraph (d) of this section.”

PART 204—PRIVACY ACT: POLICIES AND PROCEDURES

10. The authority citation for part 204 is revised to read as follows:

Authority: 17 U.S.C. 702; 5 U.S.C. 552(a).

§ 204.4 [Amended]

11. Section 204.4(a) is amended by removing “Information and Reference Division, Copyright Office, Library of Congress, Washington, DC 20559,” and by adding in its place “Copyright GC/I&R, P.O. Box 70400, Southwest Station, Washington, DC 20024,”; and by removing “9 a.m. and 4 p.m.” and adding “8:30 a.m. and 5 p.m.” in its place; and by removing “SE.” and adding in its place “SE”.

12. Section 204.4(c) is amended by removing “within ten working days of receipt and will notify the requester within 30 working days of receipt of the existence or non-existence of records pertaining to the requester.” and by adding in its place “made by individuals wishing to gain access to view or copy their records or any information pertaining to the individual, within a reasonable time. The Office will acknowledge in writing an individual's request to amend a record pertaining to him or her within ten business days.”

§ 204.5 [Amended]

13. Section 204.5(a) is amended by removing “Information and Reference Division, Copyright Office, Library of Congress, Washington, DC 20559,” and adding in its place “Copyright GC/I&R, P.O. Box 70400, Southwest Station, Washington, DC 20024,”; and by removing “SE.” and adding in its place “SE”.

14. Section 204.5(c) is amended by removing the word “ten” and adding in its place “20”.

§ 204.7 [Amended]

15. Section 204.7(a) is amended by removing “Information and Reference Division, Copyright Office, Library of Congress, Washington, DC 20559,” and adding in its place “Copyright GC/I&R, P.O. Box 70400, Southwest Station, Washington, DC 20024,”; and by removing “SE.” and adding in its place “SE”.

16. Section 204.7(b) is amended by removing “10” and adding “ten” in its place.

17. Section 204.8(a) is amended by removing “has 90 calendar days from receipt of the Copyright Office's response to” and adding in its place “who disagrees with a refusal of the Copyright Office to amend his or her record may request a review of the denial. The decision will be made within 30 business days, unless the Office can demonstrate good cause for extending the 30 day period. If the requestor is dissatisfied with the agency's final determination, the individual may bring a civil action against the Office in the appropriate United States district court.”; and by removing “Register of Copyright, Copyright Office, Library of Congress, Washington, DC 20559 for the final administrative determination” and adding in its place, “General Counsel, Copyright Office, Copyright GC/I&R, P.O. Box 70400, Southwest Station, Washington, DC 20024,”; and by removing “Register's” and adding in its place “Copyright Office General Counsel's”.

18. Section 204.8(b) is amended by removing “Register” each place it appears and adding “General Counsel” in its place; and by removing “Register's” and adding in its place “General Counsel's”.

PART 251—COPYRIGHT ARBITRATION ROYALTY PANEL RULES OF PROCEDURE

19. The authority citation for part 251 continues to read as follows:

Authority: 17 U.S.C. 801-803.

§ 251.44 [Amended]

20. Section 251.44(f) is amended by adding the heading “Service.” after the paragraph designation (f).

§ 251.64 [Amended]

21. Section 251.64 is amended by adding “Such notice shall, to the extent feasible, describe the nature, general structure, and schedule of the proceeding.” at the end of the paragraph.

PART 252—FILING OF CLAIMS TO CABLE ROYALTY FEES

22. The authority citation for part 252 continues to read as follows:

Authority: 17 U.S.C. 111(d)(4), 801, 803.

§ 252.4 [Amended]

23. Section 252.4(a)(1) is amended by removing the “.” (period) after “SE”.

PART 256—ADJUSTMENT OF ROYALTY FEE FOR CABLE COMPULSORY LICENSE

24. The authority citation for part 256 continues to read as follows:

Authority: 17 U.S.C. 702, 802.

§ 256.2 [Amended]

25. Section 256.2(b)(2) is amended by removing “actual” and adding “actual” in its place.

PART 257—FILING OF CLAIMS TO SATELLITE CARRIER ROYALTY FEES

26. The authority citation for part 257 continues to read as follows:

Authority: 17 U.S.C. 119(b)(4).

§ 257.4 [Amended]

27. Section 257.4(a)(1) is amended by removing the “.” (period) after “SE”.

PART 259—FILING OF CLAIMS TO DIGITAL AUDIO RECORDING DEVICES AND MEDIA ROYALTY PAYMENTS

28. The authority citation for part 259 continues to read as follows:

Authority: 17 U.S.C. 1007(a)(1).

§ 259.5 [Amended]

29. Section 259.5(a)(1) is amended by removing the “.” (period) after “SE”.

PART 260—USE OF SOUND RECORDINGS IN A DIGITAL PERFORMANCE

30. The authority citation for part 260 continues to read as follows:

Authority: 17 U.S.C. 114, 801(b)(1).

§ 260.2 [Amended]

31. Section 260.2(c)(1)(v) is amended by removing “merchandise or anything or service of value is received by licensee” and adding in its place “merchandise, service, or anything of value is received by Licensee” in its place.

Dated: June 22, 2000.
Marilyn J. Kretsinger
Assistant General Counsel.

[FR Doc. 00-16241 Filed 6-27-00; 8:45 am]

BILLING CODE 1410-30-P